ENVIRONMENTAL PROTECTION AGENCY

[FRL-7118-4]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et. Seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or E-mail at Farmer.sandy@epa.gov, and please refer to the appropriate EPA Information Collection Request (ICR) Number.

SUPPLEMENTARY INFORMATION:

OMB Responses to Agency Clearance Requests

OMB Approvals

EPA ICR No. 1885.01; IAQ Practices in Schools Survey; in 40 CFR part 68 was approved 07/27/01; OMB No. 2060-0463; expires 07/31/2004.

EPA ICR No. 2004.01; 2001 Emergency Planning and Community Right-to-know Act (EPCRA) and Risk Management Program (RMP) Implementation Status Questionnaire for Tribal Emergency Response Commission in 40 CFR part 68; was approved 08/13/2001; OMB No. 2009-0001; expires 08/31/2004.

EPA ICR No. 1755.05; Regulatory Reinvention Pilot Projects Under Projects XL: Pretreatment Program; was approved 08/01/2001; OMB No. 2010-0026; expires 02/28/2002.

EPA ICR No. 1425.05; Application for Reimbursement to Local Governments for Emergency Response to Hazardous Substance Releases Under CERCLA section 123 in 40 CFR part 310; was approved 08/21/2001; OMB No. 2050-0077; expires 08/31/2004.

EPA ICR No. 0155.07; Certification of Pesticide Applicators in 40 CFR part 171 was approved 08/24/2001; OMB No. 2070-0029; expires 08/31/2004.

EPA ICR No. 1715.03; TSCA Section 402 and Section 404 Training and Certification, Accreditation and Standards for Lead-Based Paint Activities in 40 CFR part 745 was approved 08/24/2001; OMB No. 2070-0155; expires 08/31/2004.

EPA ICR No. 1928.02; Information Collection Request for Filter Backwash Recycling Rule (Final Rule) in 40 CFR 141.76 and 142.16; OMB No. 2040-0224; was approved 08/14/2001; expires 08/31/2004.

EPA ICR No. 1988.01; 2001 Aquatic Animal Production Industry Surveys; was approved 08/01/2001; OMB No. 2040-0237; expires 08/31/2004.

EPA ICR No. 0866.06; Quality Assurance Specification and Requirements; was approved 08/29/2001; OMB No. 2080-0033; expires 08/31/2004.

EPA ICR No. 1446.07; PCB's Consolidated Reporting and Recordkeeping Requirements; in 40 CFR part 61; was approved on 08/29/2001; OMB No. 2070-0112; expires 08/31/2004.

EPA ICR No. 0922.06; Data Call-Ins for the Special Review and Registration Review Programs; was approved 08/29/2001; OMB No. 2070-0057; expires 08/31/2004.

EPA ICR No. 1695.07; Certification and the Averaging, Banking, and Trading Program for Non-road Spark-Ignition Engines at or Below 19 Kilowatts, in 40 CFR part 90, subpart C; was approved 09/21/2001; OMB No. 2060-0338; expires 09/30/2004.

EPA ICR No. 1862.02; Transition Program for Equipment Manufacturers, in 40 CFR part 89.101; was approved 09/21/2001; OMB No. 2060-0369; expires 09/30/2004.

EPA ICR No. 1718.03; Tax-exempt (Dyed) Highway Diesel Fuel; Requirements for Transferors and Transferees; in 40 CFR part 80.29(c), was approved 09/21/2001; OMB No. 2060-0308; expires 09/30/2004.

EPA ICR No. 0193.07; NESHAP for Beryllium in 40 CFR part 61, subpart C; was approved 09/21/2001; OMB No. 2060-0092; expires 09/30/2004.

EPA ICR No. 1722.03; Spark-ignition Marine Engine Application for Emission Certification and Participation in the Averaging, Banking and Trading Program in 40 CFR part 91, subpart B and C; was approved 09/21/2001; OMB No. 2060-0321; expires 09/30/2004.

EPA ICR No. 1681.04; NESHAP: Epoxy Resin and Non-Nylon Polyamide Production in 40 CFR part 63, subpart W; was approved 09/21/2001; OMB No. 2060-0290; expires 09/30/2004.

EPA ICR No. 1725.03; Marine Engine Manufacturer Production Line Testing Reporting and Recordkeeping Requirements, in 40 CFR part 91; was approved 09/21/2001; OMB No. 2060-0323; expires 09/30/2004.

EPA ICR No. 1761.03; Regulations for a Voluntary Emissions Standards Program Applicable to Manufacturers of Light-Duty Vehicles and Trucks Beginning in Model Year 1997 in part 40 CFR 86.1700; was approved 09/21/2001; OMB No. 2060-0345; expires 09/30/2004.

EPA ICR No. 1684.05; Non-Road Compression-Ignition Engine and On-Highway Heavy Duty Engine Application for Emissions Certification, and Participation in the Averaging, Banking, and Trading Program in 40 CFR 86.094, was approved 09/25/2001; OMB No. 2060-0287; expires 09/30/2004.

EPA ICR No. 1767.03; MACT for Primary Aluminum Reduction Plants in 40 CFR part 63, subpart LL; was approved 09/25/2001; OMB No. 2060-0360; expires 09/30/2004.

EPA ICR No. 1504.04; Data Generation for Pesticide Reregistration; in 40 CFR part 158 was approved 09/07/2001; OMB No. 2070-0107; expires 09/30/2004.

EPA ICR No. 1922.02; Storage, Treatment, Transportation, and Disposal of Mixed Waste (Final Rule); in 40 CFR part 266 was approved 08/02/2001; OMB No. 2050-0181; expires 08/31/2004.

Comments Filed

EPA ICR No. 1976.01; National Emission Standards for Hazardous Air Pollutants (NESHAP) for Reinforced Plastic Composites Production; in 40 CFR part 63, subpart WWWW on 09/21/2001 OMB filed a comment under comment No. 2060-0466. Note, this is not an OMB approval number.

Short Term Extensions

EPA ICR No. 1637.04; General Conformity of Federal Actions to State Implementation Plans, 40 CFR part 51, subpart W and 40 CFR part 93, subpart B; OMB No. 2060-0279; on 9/28/2001 OMB extended the expiration date through 12/30/2001.

Comments Filed

EPA ICR No. 1976.01; National Emission Standards for Hazardous Air Pollutants (NESHAP) for Reinforced Plastic Composites Production; in 40 CFR part 63, subpart WWWW on 09/21/2001 OMB filed a comment under comment No. 2060-0466. Note, this is not an OMB approval number.

EPA ICR No. 1954.01; National Emission Standards for Hazardous Air Pollutant; Surface Coating of Large Appliances; in 40 CFR part 63, subpart NNNN on 09/21/2001 OMB filed a comment under comment No. 2060-0457. Note, this is not an OMB approval number.

Dated: November 28, 2001.
Oscar Morales, Director,
Collection Strategies Division.

[FR Doc. 01-30911 Filed 12-13-01; 8:45 am]

BILLING CODE 6560-50-M